ENVIRONMENTAL PROTECTION AGENCY

[WI115-01-7345; FRL-7493-7]

Adequacy Status of the MOBILE6 Transportation Conformity Motor Vehicle Emissions Budgets for Wisconsin

AGENCY: Environmental Protection Agency (EPA).

ACTION: Notice of adequacy.

SUMMARY: In this notice, EPA is notifying the public that EPA has found that the Motor Vehicle Emissions Budgets (MVEB) in the January 31, 2003, Wisconsin State Implementation Plans (SIP) revision are adequate for conformity purposes. The submittal included MOBILE6 MVEB updates for the Milwaukee severe ozone area and the Sheboygan ozone maintenance area, and new maintenance plan MVEBs for the Manitowoc moderate ozone area and the Door marginal ozone area. On March 2, 1999, the DC Circuit Court ruled that submitted SIPs cannot be used for conformity determinations until EPA has affirmatively found them adequate. As a result of our finding, Milwaukee, Sheboygan, Manitowoc, and Door areas can use the MVEBs from the submitted plan for future conformity determinations. These budgets are effective May 20, 2003.

FOR FURTHER INFORMATION CONTACT: The finding and the response to comments will be available at EPA's conformity Web site: http://www.epa.gov/otaq/transp/, (once there, click on the “Conformity” button, then look for “Adequacy Review of SIP Submissions for Conformity”).

Michael Leslie, Environmental Engineer, Regulation Development Section (AR-18J), Air Programs Branch, Air and Radiation Division, United States Environmental Protection Agency, Region 5, 77 West Jackson Boulevard, Chicago, Illinois 60604, (312) 353-6680, leslie.michael@epa.gov.

SUPPLEMENTARY INFORMATION:

Background

Today's notice is simply an announcement of a finding that we have already made. EPA Region 5 sent a letter to the Wisconsin Department of Natural Resources on March 25, 2003, stating that the Milwaukee, Sheboygan, Manitowoc, and Door MVEBs in the submitted are adequate. This finding will also be announced on EPA's conformity Web site: http://www.epa.gov/otaq/transp/, (once there, click on the “Conformity” button, then look for “Adequacy Review of SIP Submissions for Conformity”).

Transportation conformity is required by section 176(c) of the Clean Air Act. EPA's conformity rule requires that transportation plans, programs, and projects conform to state air quality implementation plans and establishes the criteria and procedures for determining whether or not they do. Transportation conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the EPA, may later disapprove the SIP.

We've described our process for determining the adequacy of submitted SIP budgets in guidance (May 14, 1999, memo titled “Conformity Guidance on Implementation of March 2, 1999, Conformity Court Decision”). We followed the guidance in making our adequacy determination.

Authority: 42 U.S.C. 7401-7671q.

Dated: April 22, 2003.
Bharat Mathur,
Acting Regional Administrator, Region 5.

[FR Doc. 03-11000 Filed 5-2-03; 8:45 am]

BILLING CODE 6560-50-P